DEPARTMENT OF COMMERCE

International Trade Administration

[A-570-909]

Certain Steel Nails From the People's Republic of China: Final Results of Antidumping Duty Administrative Review and Determination of No Shipments; 2021-2022

AGENCY: Enforcement and Compliance, International Trade Administration, Department of Commerce.

SUMMARY: The U.S. Department of Commerce (Commerce) determines that Shanghai Yueda Nails Co., Ltd., a.k.a. Shanghai Yueda Nails Industry Co., Ltd. (Shanghai Yueda), an exporter of certain steel nails from the People's Republic of China (China), sold subject merchandise in the United States at prices below normal value (NV) during the period of review (POR) August 1, 2021, through July 31, 2022. Commerce further determines that certain companies made no shipments of the subject merchandise during the POR.

DATES: Applicable February 28, 2024.

FOR FURTHER INFORMATION CONTACT: Bob Palmer or Bill Horn, AD/CVD Operations, Office VIII, Enforcement and Compliance, International Trade Administration, Department of Commerce, 1401 Constitution Avenue NW, Washington, DC 20230; telephone: (202) 482-9068 or (202) 482-4868, respectively.

SUPPLEMENTARY INFORMATION:

Background

On August 25, 2023, Commerce published the Preliminary Results of this administrative review.¹ For the events subsequent to the Preliminary Results, see the Issues and Decision Memorandum.² On November 29, 2023,³ in accordance with section 751(a)(3)(A) of the Tariff Act of 1930, as amended (the Act), Commerce extended the deadline for issuing the final results until February 21, 2024.

¹ See Certain Steel Nails from the People's Republic of China: Preliminary Results of Antidumping Duty Administrative Review and Preliminary Determination of No Shipments; 2021-2022 88 FR 58242 dated August 25, 2023 (Preliminary Results), and accompanying Preliminary Decision Memorandum.

² See Memorandum, “Decision Memorandum for the Final Results of Antidumping Duty Administrative Review: Certain Steel Nails from the People's Republic of China; 2021-2022,” dated concurrently with, and hereby adopted by, this notice (Issues and Decision Memorandum).

³ See Memorandum, “Extension of Deadline for Final Results of Antidumping Duty Administrative Review,” dated November 29, 2023.

Scope of the Order ⁴

⁴ See Notice of Antidumping Duty Order: Certain Steel Nails from the People's Republic of China, 73 FR 44961 (August 1, 2008) (Order).

The products covered by the Order are nails from China. A full description of the scope of the Order is contained in the Issues and Decision Memorandum.

Analysis of Comments Received

All issues raised by interested parties in briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our verification findings, review of the record and comments received from interested parties regarding our Preliminary Results, we made certain revisions to the margin calculations for Shanghai Yueda.⁵

⁵ See Memorandum, “Verification of the Questionnaire Responses of Shanghai Yueda Nails Co., Ltd.,” dated January 10, 2024; Memorandum, “Final Results Calculation Memorandum for Shanghai Yueda,” dated concurrently with this notice; and Memorandum, “Surrogate Values for the Final Results,” dated concurrently with this notice.

Final Determination of No Shipments

In the Preliminary Results, we preliminarily determined that: (1) Hebei Minmetals Co., Ltd.; (2) Nanjing Caiqing Hardware Co., Ltd.; (3) Nanjing Yuechang Hardware Co., Ltd.; (4) Shandong Qingyun Hongyi Hardware Products Co., Ltd.; (5) Shanxi Hairui Trade Co., Ltd.; (6) Suntec Industries Co., Ltd.; (7) Tianjin Jinchi Metal Products Co., Ltd.; and (8) Xi'an Metals & Minerals Import & Export Co., Ltd. had no shipments of subject merchandise to the United States during the POR.⁶ No party filed comments with respect to this preliminary determination and we received no information to contradict it. Therefore, we continue to find that these companies had no shipments of subject merchandise during the POR and will issue appropriate liquidation instructions that are consistent with our “automatic assessment” clarification for these final results.⁷

⁶ See Preliminary Results, 88 FR at 58242.

⁷ See Non-Market Economy Antidumping Proceedings: Assessment of Antidumping Duties, 76 FR 65694 (October 24, 2011) (Assessment Practice Refinement).

China-Wide Entity

In our Preliminary Results, we determined that two companies subject to this review, Dezhou Hualude Hardware Products Co., Ltd. and S-Mart (Tianjin) Technology Development Co., Ltd., did not establish eligibility for a separate rate because they failed to provide either a separate rate application, separate rate certification, or respond to section A of Commerce's non-market economy (NME) questionnaire. As such, we preliminarily determined that these two companies are part of the China-wide entity.⁸ We received no arguments since the issuance of the Preliminary Results that provide a basis for reconsideration of these determinations. Therefore, for these final results, we continue to find that these two companies are a part of the China-wide entity.

⁸ Because no interested party requested a review of the China-wide entity and Commerce no longer considers the China-wide entity as an exporter conditionally subject to administrative reviews, we did not conduct a review of the China-wide entity. Thus, the rate (i.e., 118.04 percent) for the China-wide entity is not subject to change as a result of this review. See Antidumping Proceedings: Announcement of Change in Department Practice for Respondent Selection in Antidumping Duty Proceedings and Conditional Review of the Nonmarket Economy Entity in NME Antidumping Duty Proceedings, 78 FR 65963, 65969-70 (November 4, 2013).

Final Results of Administrative Review

For the company subject to this review, which established its eligibility for a separate rate, Commerce determines that the following estimated weighted-average dumping margin exists for the period from August 1, 2021, through July 31, 2022:

Exporter | Weighted- average dumping margin (percent)
Shanghai Yueda Nails Co., Ltd., a.k.a. Shanghai Yueda Nails Industry Co., Ltd | 23.47

Disclosure

We intend to disclose the calculations performed for the final results of this review to parties in this proceeding within five days of the date of publication of this notice in accordance with 19 CFR 351.224(b).

Assessment Rates

Pursuant to section 751(a)(2)(C) of the Act and 19 CFR 351.212(b), Commerce has determined, and U.S Customs and Border Protection (CBP) shall assess, antidumping duties on all appropriate entries covered by this review. For Shanghai Yueda, whose weighted-average dumping margin is not zero or de minimis (i.e., less than 0.5 percent), Commerce will calculate per-unit importer-specific assessment rates by dividing the total amount of dumping for reviewed sales of subject merchandise to that importer (or customer) by the total quantity sold to that importer (or customer).

We will instruct CBP to assess antidumping duties on all appropriate entries covered by this review when the importer-specific assessment rate calculated is above de minimis (i.e., 0.50 percent). To determine whether the duty assessment rates are de minimis, in accordance with the requirement set forth in 19 CFR 351.106(c)(2), we calculate importer- (or customer-) specific ad valorem ratios based on the estimated entered value. Where an importer-specific per-unit assessment rate is zero or de minimis, Commerce will instruct CBP to liquidate appropriate entries without regard to antidumping duties.⁹ For U.S. entries that were not reported in the U.S. sales data submitted by Shanghai Yueda, but that entered under Shanghai Yueda's case number (i.e., at its cash deposit rate), Commerce will instruct CBP to liquidate such entries at the cash deposit rate for the China-wide entity (i.e., 118.04 percent).

⁹ See 19 CFR 351.106(c)(2).

We will instruct CBP to apply an ad valorem assessment rate of 118.04 percent to all POR entries of subject merchandise which were exported by the companies in the China-wide entity, including Dezhou Hualude Hardware Products Co., Ltd. and S-Mart (Tianjin) Technology Development Co., Ltd. In addition, we will instruct CBP to assess any suspended entries of subject merchandise associated with the companies listed in the “Final Determination of No Shipments” section above at the China-wide rate.¹⁰

¹⁰ For a full discussion of this practice, see Assessment Practice Refinement, 76 FR at 65694.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of these final results for all shipments of the subject merchandise from China entered, or withdrawn from warehouse, for consumption on or after the publication date, as provided by section 751(a)(2)(C) of the Act: (1) for Shanghai Yueda, the cash deposit rate will be equal to the weighted-average dumping margin listed in the table above; (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 118.04 percent); and (4) for all non-Chinese exporters of subject merchandise which have not received their own separate rate, the cash deposit rate will be the rate applicable to the Chinese exporter that supplied that non-Chinese exporter. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: February 21, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Surrogate Financial Statements

Comment 2: Calculation of Financial Ratios

Comment 3: Inclusion of Non-Participating Companies in Customs Instructions

Comment 4: Surrogate Value for Steel Scrap

VI. Recommendation

[FR Doc. 2024-04075 Filed 2-27-24; 8:45 am]

BILLING CODE 3510-DS-P